DEPARTMENT OF HOMELAND SECURITY

Federal Emergency Management Agency

44 CFR Part 67

[Docket ID FEMA-2011-0002]

Final Flood Elevation Determinations

Correction

In rule document 2011-31276 beginning on page 76055 in the issue of Tuesday, December 6, 2011, make the following corrections:

§ 67.11 [Corrected]

1. On page 76056, under the ADDRESSES heading, the following text should read as set forth below:

City of Lebanon
Maps are available for inspection at the Municipal Building, 401 South Meridian Street, Lebanon, IN 46052.
Town of Whitestown
Maps are available for inspection at the Town Hall, 3 South Main Street, Whitestown, IN 46075.
Unincorporated Areas of Boone County
Maps are available for inspection at the Boone County Area Plan Commission, 116 West Washington Street, Lebanon, IN 46052.

2. On page 76057, under the ADDRESSES heading, the following text should read as set forth below:

City of East Chicago
Maps are available for inspection at 4444 Railroad Avenue, East Chicago, IN 46312.
City of Gary
Maps are available for inspection at 401 West Broadway, Gary, IN 46402.
City of Hammond
Maps are available for inspection at 5925 Calumet Avenue, Hammond, IN 46322.
City of Whiting
Maps are available for inspection at 1443 119th Street, Whiting, IN 46394.
Town of Dyer
Maps are available for inspection at 1 Town Square, Dyer, IN 46311.
Town of Griffith
Maps are available for inspection at 111 North Broad Street, Griffith, IN 46319.
Town of Lowell
Maps are available for inspection at 501 East Main Street, Lowell, IN 46356.
Town of Merrillville
Maps are available for inspection at 7820 Broadway, Merrillville, IN 46410.
Town of Munster
Maps are available for inspection at 1005 Ridge Road, Munster, IN 46321.
Town of Schererville
Maps are available for inspection at 10 East Joliet Street, Schererville, IN 46375.
Unincorporated Areas of Lake County
Maps are available for inspection at 2293 North Main Street, Crown Point, IN 46307.

3. On the same page, under the second ADDRESSES heading, the following text should read as set forth below:

Town of Cruger
Maps are available for inspection at the Town Hall, 225 Railroad Street, Cruger, MS 38924.
Unincorporated Areas of Holmes County
Maps are available for inspection at the Holmes County Courthouse, 300 Yazoo Street, Lexington, MS 39095.

4. On page 76058, under the ADDRESSES heading, the following text should read as set forth below:

Township of Fox
Maps are available for inspection at the Fox Township Municipal Building, 116 Irishtown Road, Kersey, PA 15846.
Township of Ridgway
Maps are available for inspection at the Township Municipal Building, 164 Ridgway Drive, Ridgway, PA 15853.

5. On the same page, under the second ADDRESSES heading, the following text should read as set forth below:

Township of Antrim
Maps are available for inspection at the Antrim Township Municipal Building, 10655 Antrim Church Road, Greencastle, PA 17225.
Township of Guilford
Maps are available for inspection at the Guilford Township Building, 115 Spring Valley Road, Chambersburg, PA 17201.
Township of Letterkenny
Maps are available for inspection at the Letterkenny Township Building, 4924 Orrstown Road, Orrstown, PA 17244.
Township of Lurgan
Maps are available for inspection at the Lurgan Township Building, 8650 McClays Mill Road, Newburg, PA 17240.
Township of Peters
Maps are available for inspection at the Peters Township Building, 5342 Lemar Road, Mercersburg, PA 17236.
Township of Southampton
Maps are available for inspection at the Township Building, 705 Municipal Drive, Southampton, PA 17257.
Township of Washington
Maps are available for inspection at the Washington Township Building, 13013 Welty Road, Waynesboro, PA 17268.

6. On page 76059, under the ADDRESSES heading, the following text should read as set forth below:

Borough of New Beaver
Maps are available for inspection at the New Beaver Borough Office, 778 Wampum New Galilee Road, New Galilee, PA 16141.
Borough of Wampum
Maps are available for inspection at the Borough Secretary's Office, 355 Main Street, Wampum, PA 16157.
Township of Hickory
Maps are available for inspection at the Hickory Township Hall, 127 Eastbrook-Neshannock Falls Road, New Castle, PA 16105.
Township of Mahoning
Maps are available for inspection at the Mahoning Township Municipal Building, 4538 West State Street, Hillsville, PA 16132.
Township of Perry
Maps are available for inspection at the Perry Township Hall, 284 Reno Road, Portersville, PA 16051.
Township of Pulaski
Maps are available for inspection at the Township Hall, 1172 State Route 208, Pulaski, PA 16117.
Township of Taylor
Maps are available for inspection at the Taylor Township Board of Supervisors Office, 218 Industrial Street, West Pittsburg, PA 16160.
Township of Union
Maps are available for inspection at the Union Township Board of Supervisors Office, 1910 Wilson Drive, New Castle, PA 16101.
Township of Wilmington
Maps are available for inspection at the Wilmington Township Hall, 669 Wilson Mill Road, New Castle, PA 16105.

[FR Doc. C1-2011-31276 Filed 4-6-12; 8:45 am]

BILLING CODE 1501-05-D